DEPARTMENT OF ENERGY

Federal Energy Regulatory Commission

[Project No. 5679-041]

Energy Stream, LLC; Notice of Meeting

a. Project Name and Number: M.S.C. Hydroelectric Project No. 5679.

b. Applicant: Energy Stream, LLC (Energy Stream).

c. Date and Time of Meeting: Thursday, February 6, 2025, from 10:00 a.m. to 11:00 a.m. Eastern Standard Time.

d. FERC Contact: John Baummer, (202) 502-6837, or john.baummer@ferc.gov.

e. Purpose of Meeting: Commission staff will hold a meeting with representatives from the Connecticut State Historic Preservation Office (Connecticut SHPO) and Energy Stream to discuss Commission staff's draft Programmatic Agreement for the M.S.C Hydroelectric Project, pursuant to section 106 of the National Historic Preservation Act. The meeting will be held virtually via Microsoft Teams.

f. All local, state, and federal agencies, Indian Tribes, and other interested parties are invited to participate. If meeting attendees decide to disclose information about a specific location that could create a risk or harm to an archaeological site or Native American cultural resource, attendees other than Connecticut SHPO, Tribal representatives, and Commission staff will be excused for that portion of the meeting.

g. A summary of the meeting will be placed in the public record of this proceeding. As appropriate, the meeting summary will include both a public, redacted version that excludes any information about the specific location of any archaeological site or Native American cultural resource and an unredacted privileged version. Parties planning to attend the meeting should notify John Baummer at (202) 502-6837 or john.baummer@ferc.gov by Wednesday, February 5, 2025, to RSVP and receive specific instructions for logging in to the meeting.

Dated: January 22, 2025.
Debbie-Anne A. Reese,
Secretary.

[FR Doc. 2025-01801 Filed 1-27-25; 8:45 am]

BILLING CODE 6717-01-P